GENERAL SERVICES ADMINISTRATION

Request for Comments on Proposed Federal Emergency Travel Guide

AGENCY: Office of Governmentwide Policy, General Services Administration (GSA).

ACTION: Notice of intent and request for comments.

SUMMARY: The General Services Administration (GSA) is proposing to create a Federal Emergency Travel Guide in the event of evacuation, catastrophic event or natural disaster. The guide is intended to prepare the Federal Government to continue official travel operations in an emergency situation while safeguarding Federal employees officially away from their official or temporary duty stations. The guide, non-regulatory in nature, will serve as a supplement to the Federal Travel Regulation (FTR) (41 CFR chapters 300-304).

DATES: Please submit comments by September 18, 2007.

ADDRESSES: Written comments should be sent to Ms. Jane Groat, Travel Policy Management (MTT), Office of Governmentwide Policy, General Services Administration, 1800 F Street, NW., Washington, DC 20405. E-mail comments may be sent to perdiem@gsa.gov. Please entitle your letter or e-mail with “Federal Emergency Travel Guide comments”.

FOR FURTHER INFORMATION CONTACT: Jane Groat, Travel Policy Management (MTT), telephone 202-501-4318.

SUPPLEMENTARY INFORMATION: To access the draft guide, you may visit http://www.gsa.gov/travelpolicy (click Library). A hard copy of the draft guide is not available.

GSA is interested to learn from Federal, (1) how to improve the draft guide; (2) whether Federal agencies and employees agree that the guide will be a useful tool; (3) what Federal agencies already have related policies in place (and identify a web site)—employees on site in support of an incident of National significance are generally under the effect of a National Response Plan and follow those established guides; (4) what kinds of things need to be added to the guide for governmentwide benefit; and (5) any other related comment/suggestion.

If you comment, please include your name, title, your capacity (i.e., an employee, an official, or an Emergency Response Team), telephone, agency, email and hard addresses. Are you commenting from personal experience as a traveler, a supervisor/manager, or an Emergency Response Team? Have you had a need for emergency guides? If you survived a horrific event or emergency, what help/assistance was needed the most, where did expectations and support fall short, and what would your recommendations be?

If you are a private sector travel or transportation service provider to the Government, we will also welcome your comments.

Dated: July 16, 2007.
Patrick Mc Connell,
Acting Director, Travel Policy Management.

[FR Doc. E7-14052 Filed 7-19-07; 8:45 am]

BILLING CODE 6820-14-P